LIBRARY OF CONGRESS

Copyright Office

37 CFR Parts 220, 222, 225, 226, 228, 230, 231, 232, and 233

[Docket No. 2021-8]

Copyright Claims Board: Active Proceedings and Evidence; Correction

AGENCY: U.S. Copyright Office, Library of Congress.

ACTION: Final rule; correction.

SUMMARY: The U.S. Copyright Office is correcting a final rule that appeared in the Federal Register on May 17, 2022. The document established procedures governing active proceedings before the Copyright Claims Board and post-determination procedures under the Copyright Alternative in Small-Claims Enforcement Act of 2020. The correction fixes an inadvertent instruction, typographical errors, and inconsistent phrasing.

DATES: Effective June 16, 2022.

FOR FURTHER INFORMATION CONTACT: Megan Efthimiadis, Assistant to the General Counsel, by email at meft@copyright.gov, or by telephone at 202-707-8350.

SUPPLEMENTARY INFORMATION: In FR Doc. 2022-10466 appearing on at 87 FR 30060 in the issue of Tuesday, May 17, 2022, the following corrections are made:

§ 220.5 [Corrected]

1. On page 30075, in the third column, in § 220.5, in paragraph (a)(1) introductory text, “Requests and responses to requests which are identified under this subsection shall be filed through the fillable form on eCCB and be limited to 4,000 characters. Any party may submit a response to a request identified in this subsection within seven days of the filing of the request.” is corrected to read “Requests and responses to requests which are identified under this paragraph (a)(1) shall be filed through the fillable form on eCCB and be limited to 4,000 characters. Any party may submit a response to a request identified in this paragraph within seven days of the filing of the request.”

2. On page 30076, in the second column, in § 220.5, in paragraph (a)(2) introductory text, “Requests and responses to requests which are identified under this subsection shall be filed through the fillable form on eCCB and be limited to 10,000 characters, not including any permitted attachments.” is corrected to read “Requests and responses to requests which are identified under this paragraph (a)(2) shall be filed through the fillable form on eCCB and be limited to 10,000 characters, not including any permitted attachments.”

3. On page 30076, in the second column, in § 220.5, paragraph (a)(2)(v), “Such requests must enter each specific additional discovery request (e.g., the specific interrogatories, document requests or requests for admission sought) within the fillable form;” is corrected to read “Such requests must enter each specific additional discovery request (e.g., the specific interrogatories, document requests, or requests for admission sought) within the fillable form;”.

§ 222.8 [Corrected]

4. On page 30077, in the second column, in § 228.8, in paragraph (f), “A failure to file a response within the required timeframe may constitute a default 17 U.S.C. 1506(u), and the Board may begin proceedings in accordance with part 227 of this subchapter.” is corrected to read “A failure to file a response within the required timeframe may constitute a default under 17 U.S.C. 1506(u), and the Board may begin proceedings in accordance with part 227 of this subchapter.”

§ 222.10 [Corrected]

5. On page 30077, in the second column, in part 222, following amendatory instruction 9, the section heading “§ 222.8 Response to counterclaim” is corrected to read “§ 222.10 Response to counterclaim”.

§ 222.14 [Corrected]

6. On page 30078, in the third column, in § 222.14, in paragraph (c), “At any time, a third party seeking to intervene on the ground(s)s that it is a necessary party may file a request setting forth the reasons for the request and requesting a conference with the Board.” is corrected to read “At any time, a third party seeking to intervene on the ground(s) that it is a necessary party may file a request setting forth the reasons for the request and requesting a conference with the Board.”

§ 222.17 [Corrected]

7. On page 30080, in the first column, in § 222.17, in paragraph (d), “Dismissal of a claim or counterclaim under this section will not affect remaining claims or counterclaims in the proceeding.” is corrected to read “Dismissal of a claim or counterclaim under this section will not affect any remaining claims or counterclaims in the proceeding.”

§ 225.1 [Corrected]

8. On page 30082, in the first column, in § 225.1, in paragraph (a)(2), “Requests to the Board related to discovery may be raised to the Board during a conference or by written request, as set forth in this section.” is corrected to read “Requests to the Board related to discovery may be raised to the Board during a conference or by written request, as set forth in this part.”

§ 225.3 [Corrected]

9. On page 30084, in the first column, in § 225.3, in paragraph (f)(2) introductory text, “Documents responsive to the standard requests for the production of documents, or any additional requests permitted by the Board, including electronically stored information (ESI), including emails and computer files.” is corrected to read “Documents responsive to the standard requests for the production of documents, or any additional requests permitted by the Board, shall include electronically stored information (ESI), including emails and computer files.”

§ 226.4 [Corrected]

10. On page 30087, in the first column, in § 226.4, in paragraph (g), “In its discretion or upon the request of any party, the presiding Officer may hold additional conferences, including to manage the conduct of the proceeding, address disputes between the parties, settlement and engage in further discussion of the claims, counterclaims, or defenses and supporting evidence.” is corrected to read “In its discretion or upon the request of any party, the presiding Officer may hold additional conferences, including to manage the conduct of the proceeding, address disputes between the parties, and engage in further discussion of the claims, counterclaims, or defenses and supporting evidence.”

§ 228.2 [Corrected]

11. On page 30089, in the second column, in § 228.2, in paragraph (d), “The claimant or counterclaimant may only challenge such determination to the extent permitted under 17 U.S.C. 1508€ or the procedures set forth in paragraph (e) of this section.” is corrected to read “The claimant or counterclaimant may only challenge such determination to the extent permitted under 17 U.S.C. 1508(c) or the procedures set forth in paragraph (e) of this section.”

§ 230.5 [Corrected]

12. On page 30090, in the first column, in § 230.5, “The Board will base its decision on the party's written submissions.” is corrected to read “The Board will base its decision on the parties' written submissions.”

§ 231.6 [Corrected]

13. On page 30090, in the second and third column, in § 231.6, “The Register will base such a decision on the party's written submissions.” is corrected to read “The Register will base such a decision on the parties' written submissions.”

Part 232 [Corrected]

14. On page 30090, in the third column, amendatory instruction 20 and the part 232 table of contents are removed and amendatory instructions 20a and 20b are added in their place to read as follows:

PART 232—PARTY CONDUCT

20a. The authority citation for part 232 continues to read as follows:

Authority: 17 U.S.C. 702, 1510.

20b. Sections 232.1 through 232.5 are added to read as follows:

Sec.
212.1 General.
232.2 Representations to the Board.
232.3 Bad-faith conduct.
232.4 Bar on initiating and participating in claims.
232.5 Legal counsel and authorized representative conduct.

* * * * *

§ 232.3 [Corrected]

15. On page 30091, in the first column, in § 232.3, in paragraph (b)(2), “A party that in good faith believes that a participant has engaged in bad-faith conduct, may file a request for a conference with the Board, describing the alleged bad-faith conduct and attaching any relevant exhibits.” is corrected to read “A party that in good faith believes that a participant has engaged in bad-faith conduct may file a request for a conference with the Board describing the alleged bad-faith conduct and attaching any relevant exhibits.”

§ 232.4 [Corrected]

16. On page 30091, in the second column, in § 232.4, in paragraph (b)(2), “A party that in good faith believes that a participant has engaged in bad-faith conduct before the Board on more than one occasion within a 12-month period, may file a request for a conference with the Board at any point after a proceeding has been initiated.” is corrected to read “A party that in good faith believes that a participant has engaged in bad-faith conduct before the Board on more than one occasion within a 12-month period may file a request for a conference with the Board at any point after a proceeding has been initiated.”

17. On page 30091, in the second column, in § 232.4, in paragraph (c), “An award of attorneys' fees or costs against an accused party, pursuant to § 232.3, within the prior 12 months shall establish an instance of bad-faith conduct within the requisite time period.” is corrected to read “An award of attorneys' fees or costs against an accused participant, pursuant to § 232.3, within the prior 12 months shall establish an instance of bad-faith conduct within the requisite time period.”

§ 233.2 [Corrected]

18. On page 30092, in the second column, in § 233.2, in paragraph (a) introductory text, “The number of Copyright Claims Board proceedings that may be filed by a claimant and the number of proceedings a solo practitioner or law firm may file on behalf of claimants in any 12-month period shall be limited in accordance with this section.” is corrected to read “The number of Copyright Claims Board proceedings that may be filed by a claimant and the number of proceedings that may be filed by legal counsel or law firms on behalf of claimants in any 12-month period shall be limited in accordance with this section.”

19. On page 30092, in the second column, in § 233.2, in paragraph (a)(2), “A sole practitioner shall file no more than 40 CCB proceedings on behalf of claimants in any 12-month period.” is corrected to read “A sole practitioner or a legal counsel associated with a law firm shall file no more than 40 CCB proceedings on behalf of claimants in any 12-month period.”

Dated: June 7, 2022.
Shira Perlmutter,
Register of Copyrights and Director of the U.S. Copyright Office.
Approved by:
Carla D. Hayden,
Librarian of Congress.

[FR Doc. 2022-12899 Filed 6-14-22; 8:45 am]

BILLING CODE 1410-30-P